PEACE CORPS

Proposed Agency Information Collection Activities: Career Information Consultants Waiver Form (PC-DP-969.1.2)

AGENCY: Peace Corps.

ACTION: Notice of Reinstatement of OMB Control Number 0420-0531, with changes, of a previously approved collection for which approval has expired.

SUMMARY: Pursuant to the Paperwork Reduction Act of 1981 (44 U.S.C. Chapter 35), the Peace Corps has submitted to the Office of Management and Budget, a request for approval of Reinstatement of OMB Control Number 4020-0531, the Career Information Consultants Waiver Form (PC-DP-969.1.2). The purpose of this information collection is to gather and update contact information for individuals who volunteer to share information about their career field, their past or current employer(s), and their career and educational paths with current and returned Peace Corps Volunteers. The purpose of this notice is to allow for public comments on whether the proposed collection of information is necessary for the proper performance of the functions of the Peace Corps, including whether the information will have practical use; the accuracy of the agency's estimate of the burden of the proposed information collection, including the validity of the methodology and assumptions used; ways to enhance the quality, utility and the clarity of the information to be collected; and, ways to minimize the burden of the collection of information on those who are to respond, including through the use of automated collection techniques, when appropriate, and other forms of information technology. A copy of the information collection may be obtained from Ms. Tamara Webb, Peace Corps, Office of Domestic Programs, Returned Volunteer Services, 1111 20th Street, NW., Room 2132, Washington, DC 20526. Ms. Webb can be contacted by telephone at 202-692-1435 or 800-424-8580 ext 1435.

DATES: Comments must be submitted on or before March 13, 2006.

Need for and Use of this Information: The Career Information Consultants Waiver Form is used to gather contact information from individuals who have volunteered to serve as career resources for current Peace Corps Volunteers and Returned Peace Corps Volunteers. The form is distributed and collected by the Peace Corps Office of Domestic Programs, Returned Volunteer Services Division. The Returned Volunteer Services division provides transition assistance to returning and recently-returned Volunteers through the Career Information Consultants project and other career, educational, and readjustment activities. The purpose of this information collection is to gather and update contact information for the Career Information Consultants database and publication. There is no other means of obtaining the required data. The Career information Consultants project supports the need to assist returned volunteers and enhance the agency's capability to serve this population as required by Congressional legislation.

Respondents: Professionals interested in supporting current and Returned Peace Corps Volunteers.

Respondent's Obligation to Reply: Voluntary.

Burden on the Public:

a. Annual reporting burden: 208 hours.

b. Annual record keeping burden: 0 hours.

c. Estimated average burden per response: 5 minutes.

d. Frequency of response: Annually.

e. Estimated number of likely respondents: 2500.

f. Estimated cost to respondents: $0.

At this time, responses will be returned by mail.

This notice is issued in Washington, DC on December 19, 2005.
Gilbert Smith,
Associated Director for Management.

[FR Doc. 06-247 Filed 1-11-06; 8:45 am]

BILLING CODE 6051-01-M